DEPARTMENT OF ENERGY

Agency Information Collection Extension

AGENCY: U.S. Department of Energy.

ACTION: Notice of request for comments.

SUMMARY: The Department of Energy (DOE), pursuant to the Paperwork Reduction Act of 1995, intends to extend for three years, an information collection request with the Office of Management and Budget (OMB).

DATES: Comments regarding this proposed information collection must be received on or before July 19, 2021. If you anticipate any difficulty in submitting comments within that period, contact the person listed in the FOR FURTHER INFORMATION CONTACT section as soon as possible.

ADDRESSES: Written comments may be sent to Yohanna Freeman, PRA Officer, Office of the Chief Information Officer, U.S. Department of Energy, 1000 Independence Avenue SW, Washington, DC 20585-1615, or by email at DOEPRA@hq.doe.gov.

FOR FURTHER INFORMATION CONTACT: Yohanna Freeman, PRA Officer, Office of the Chief Information Officer, U.S. Department of Energy, 1000 Independence Avenue SW, Washington, DC 20585-1615, or by email at DOEPRA@hq.doe.gov.

SUPPLEMENTARY INFORMATION: Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This Information Collection Request Contains

(1) OMB No.: 1910-5160;

(2) Information Collection Request Titled: Generic Clearance for the Collection of Qualitative Feedback on Agency Service Delivery;

(3) Type of Review: Extension;

(4) Purpose: The proposed information collection activity provides a means to garner qualitative customer and stakeholder feedback in an efficient, timely manner, in accordance with the Administration's commitment to improving service delivery. By qualitative feedback we mean information that provides useful insights on perceptions and opinions, but are not statistical surveys that yield quantitative results that can be generalized to the population of study. This feedback will provide insights into customer or stakeholder perceptions, experiences and expectations, provide an early warning of issues with service, or focus attention on areas where communication, training or changes in operations might improve delivery of products or services. These collections will allow for ongoing, collaborative and actionable communications between the Agency and its customers and stakeholders. It will also allow feedback to contribute directly to the improvement of program management;

(5) Annual Estimated Number of Respondents: 10,000;

(6) Annual Estimated Number of Total Responses: 10,000;

(7) Annual Estimated Number of Burden Hours: 200,000;

(8) Annual Estimated Reporting and Recordkeeping Cost Burden: $0.

Statutory Authority: Executive Order (E.O.) 13571, Streamlining Service Delivery and Improving Customer Service.

Signing Authority

This document of the Department of Energy was signed on April 7, 2021, by Emery Csulak, Acting Chief Information Officer, pursuant to delegated authority from the Acting Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 13, 2021.
Treena V. Garrett,
Federal Register Liaison Officer, U.S. Department of Energy.

[FR Doc. 2021-10411 Filed 5-17-21; 8:45 am]

BILLING CODE 6450-01-P